UNIFIED CARRIER REGISTRATION PLAN

Sunshine Act Meetings

TIME AND DATE: March 14, 2024, 12:00 p.m. to 3:00 p.m., Eastern time.

PLACE: This meeting will be accessible via conference call and via Zoom Meeting and Screenshare. Any interested person may call (i) 1-929-205-6099 (US Toll) or 1-669-900-6833 (US Toll), Meeting ID: 966 6892 4822, to listen and participate in this meeting. The website to participate via Zoom Meeting and Screenshare is https://kellen.zoom.us/meeting/register/tJIrceGhrD8iGNaBak6mIFVDvOfos0dZGl2K.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—UCR Audit Subcommittee Chair

The UCR Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Audit Subcommittee Chair

For Discussion and Possible Subcommittee Action

The agenda will be reviewed, and the Subcommittee will consider adoption.

Ground Rules

Subcommittee action only to be taken in designated areas on the agenda.

IV. Review and Approval of Minutes From the November 9, 2023 Subcommittee Meeting—UCR Audit Subcommittee Chair

For Discussion and Possible Subcommittee Action

Draft minutes from the November 9, 2023 Subcommittee meeting via teleconference will be reviewed. The Subcommittee will consider action to approve.

V. Discussion of the Auto-Renew Policy Developed for the Annual Renewal of UCR Registration—UCR Audit Subcommittee Chair, UCR Audit Subcommittee Vice-Chair, UCR Executive Director and SeikoSoft Representatives

For Discussion and Possible Subcommittee Action

The UCR Audit Subcommittee Chair, UCR Audit Subcommittee Vice-Chair, UCR Executive Director, and Seikosoft Representatives will lead a discussion on the issues involved in drafting the auto-renew policy for the voluntary annual automatic renewal of UCR registrations and options for SeikoSoft to design and implement a system that allows for the voluntary annual automatic renewal of UCR registrations using business rules developed by the Subcommittee. The Audit Subcommittee may take action to recommend that the UCR Board adopt specific language containing business and legal rules, and procedures regarding the implementation of auto-renew.

VI. Discuss Options To Review and Update the Definition of the Focused Anomaly Review (FAR)—UCR Audit Subcommittee Chair, UCR Audit Subcommittee Vice-Chair, DSL Transportation Services, Inc.

The UCR Audit Subcommittee Chair, UCR Audit Subcommittee Vice-Chair, and DSL Transportation Services, Inc., will lead a discussion on options to update/expand the definition of a FAR.

VII. Review How the Process To Clean Up the Unregistered Motor Carrier UCR Universe in Shadow MCMIS Is Working for States—UCR Audit Subcommittee Chair, UCR Audit Subcommittee Vice-Chair and a SeikoSoft Representative

For Discussion and Possible Subcommittee Action

The UCR Audit Subcommittee Chair, UCR Audit Subcommittee Vice-Chair and a Seikosoft Representative will lead a discussion on the steps necessary for the NRS and State Auditors to review and clean up the 2022/2023 unregistered motor carriers with no activity in the previous 365 days. The Subcommittee may recommend that the Board take action to approve one or more of the options discussed. The Audit Subcommittee may also take action to recommend the UCR Board adopt this proposal.

VIII. Update on Retreat Audit Program With a Program That Relies on the NRS Roadside Inspection Data—UCR Audit Subcommittee Chair, UCR Audit Subcommittee Vice-Chair, DSL Transportation Services, Inc., and a SeikoSoft Representative

The UCR Audit Subcommittee Chair, UCR Audit Subcommittee Vice Chair, DSL Transportation Services, Inc., and a SeikoSoft Representative will lead a discussion on the status of the new Retreat Audit Program that utilizes roadside inspection data for an automation driven audit for non-IRP and IRP plated commercial motor vehicles.

IX. Update the Subcommittee on the Recent Monthly Question and Answer Session for State Auditors—UCR Audit Subcommittee Chair, UCR Audit Subcommittee Vice-Chair and UCR Executive Director

The UCR Audit Subcommittee Chair, UCR Audit Subcommittee Vice-Chair, and UCR Executive Director will lead a discussion on the date, time, and subject matter of the next session in the series of 60-minute virtual question and answer sessions concerning UCR Plan audits.

X. Other Business—UCR Audit Subcommittee Chair

The UCR Audit Subcommittee Chair will call for any other items Subcommittee members would like to discuss.

XI. Adjournment—UCR Audit Subcommittee Chair

The UCR Audit Subcommittee Chair will adjourn the meeting.

The agenda will be available no later than 5:00 p.m. Eastern time, March 6, 2024 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-05095 Filed 3-6-24; 4:15 pm]

BILLING CODE 4910-YL-P